DEPARTMENT OF THE DEFENSE

Department of the Army, Corps of Engineers

Withdrawal of the Notice of Intent To Prepare a Draft Environmental Impact Statement for the Dam Safety Modification Study Report for Center Hill Dam, DeKalb County, Tennessee

AGENCY: U.S. Army Corps of Engineers, DoD.

ACTION: Notice of Intent; withdrawal.

SUMMARY: The U.S. Army Corps of Engineers, Nashville District (USACE), is issuing this notice to inform Federal, State, local governmental agencies, and the public that USACE is withdrawing the Notice of Intent (NOI) to prepare a draft Environmental Impact Statement (EIS) to support the Dam Safety Modification Study Report (DSMSR) for Center Hill Dam.

ADDRESSES: U.S. Army Corps of Engineers, Nashville District, 110 9th Avenue South, RM 405A, Nashville, Tennessee 37203-3817.

FOR FURTHER INFORMATION CONTACT: Joy Broach, Aquatic Biologist, (615) 736-7956; email: joy.i.broach@usace.army.mil.

SUPPLEMENTARY INFORMATION: USACE published an NOI in the Federal Register on Friday, April 20, 2018 (77 FR 17541) to prepare a draft EIS pursuant to the National Environmental policy Act (NEPA) for the DSMSR. A scoping letter was circulated to federal, state, and local agencies, political officials, and the public on April 20, 2018. A public scoping meeting was held on May 3, 2018 to solicit public comments regarding environmental concerns for seven potential alternatives to lower risk at Center Hill Dam. Since the public meeting on May 3, 2018, and after additional engineering studies, the proposed alternatives have been evaluated. Several measures considered structural changes to existing spillway gate machinery to maximize spillway flow for extreme flood events. One measure considered adding spillway gates near the saddle dam and one measure considered changing the emergency operating schedule for spillway gate operations. The dam safety modification dam safety study recommended plan is maintenance rehabilitation of the electrical system, gate machinery and brakes to increase reliability, along with adding capability to remotely operate the gates from the top of the dam during an extreme flood event. The recommended plan does not include relocation or long-term road closure of Highway 96. The measures addressing spillway gate maintenance to increase gate reliability, are being recommended as a result of the dam safety modification study. These measures are considered routine operation and maintenance of the existing dam structure; they are categorically excluded from NEPA documentation and do not require an EIS. Therefore, the NOI to prepare an EIS is withdrawn with this notice.

Dated: December 11, 2018.
Timothy A. Higgs,
Environmental Section Chief, Project Planning Branch, U.S. Army Corps of Engineers, Nashville District.

[FR Doc. 2018-27346 Filed 12-17-18; 8:45 am]

BILLING CODE 3720-58-P